DEPARTMENT OF DEFENSE

Department of the Army, Corps of Engineers

Table Rock Lake Oversight Committee; Meeting Notice

AGENCY: Department of the Army, U.S. Army Corps of Engineers, DoD.

ACTION: Notice of revised date for open committee meeting, Table Rock Lake Oversight Committee Meeting 4.

SUMMARY: The Department of Defense (DoD) published a notice on July 6, 2020 that announced the third meeting of the Table Rock Lake Oversight Committee was to take place on July 16, 2020. In addition, Meeting 4 would also be rescheduled. DoD is publishing this notice to announce the revised schedule for Meeting 4 of the Federal advisory committee meetings of the Table Rock Lake Oversight Committee (TRLOC).

DATES: Meeting 4: Wednesday, September 23, 2020, 8 a.m. to 12 p.m. This meeting will be held virtually.

ADDRESSES: U.S. Army Corps of Engineers, Little Rock District, ATTN: Table Rock Lake Oversight Committee (Operations Division), P.O. Box 867 Little Rock, Arkansas 72203-0867.

FOR FURTHER INFORMATION CONTACT: Ms. Dana Coburn, Designated Federal Officer (DFO) for the Committee, in writing at U.S. Army Corps of Engineers, Little Rock District, Operations Division, P.O. Box 867, Little Rock, Arkansas 72203-0867, or by email at CESWL-TRLOC-DFO@usace.army.mil.

SUPPLEMENTARY INFORMATION: These meetings are being held pursuant to the implementation of Section 1185(c) of the Water Resources Development Act of 2016 (130 Stat. 1680) and under the provisions of the Federal Advisory Committee Act (FACA) (Pub. L. 92-463, 86 Stat. 770.), the Sunshine in the Government Act of 1976 (U.S.C. 552b, as amended) and 41 Code of the Federal Regulations (CFR 102-3.150).

Purpose of the Meetings: The TRLOC is an independent Federal advisory committee established as directed by Section 1185(c) of the Water Resources Development Act of 2016 (130 Stat. 1680). The committee is advisory in nature only with duties to include providing information and recommendations to the U.S. Army Corps of Engineers, Little Rock District Engineer on revisions to the Table Rock Lake Master Plan and Shoreline Management Plan. The TRLOC may also, at the discretion of the District Engineer, review any permit to be issued under the provisions of the existing master plan and shoreline management plan until any approved revisions are finalized and become part of the formal governing documents.

Proposed Agenda: AGENDA—Meeting 4

I. Call to Order, DFO and TRLOC Chairperson

II. Corps Presentation on Response to TRLOC Recommendations

III. Corps Presentation on final Table Rock Lake Master Plan and final Table Rock Lake Shoreline Management Plan

IV. TRLOC Termination Process and Procedures

V. Adjournment

Accessibility to the Meeting: This meeting will be held entirely virtually, and all public access and participation will be virtual in nature. The information needed to access the virtual meeting will be posted on the TRLOC website https://go.usa.gov/xfzBH September 16, one week prior to the meeting. The most up-to-date information and instructions about the virtual meeting will also be posted there. A court reporter will be in attendance to record the TRLOC meetings.

Pete G. Perez,
Director of Programs, Southwestern Division.

[FR Doc. 2020-19222 Filed 8-31-20; 8:45 am]

BILLING CODE 3720-58-P